DEPARTMENT OF HOMELAND SECURITY

U.S. Customs and Border Protection

[Docket No. USCBP-2018-0045]

Announcing the Re-Opening of the Public Comment Period for 21st Century Customs Framework

AGENCY: U.S. Customs and Border Protection (CBP), Department of Homeland Security (DHS).

ACTION: Re-opening of comment period.

SUMMARY: U.S. Customs and Border Protection (CBP) is announcing the re-opening of the public comment period on the six key themes identified by “The 21st Century Customs Framework” initiative.

DATES: Comments must be received on or before April 11, 2019.

ADDRESSES:

Submission of comments: To facilitate public participation, we are inviting public comment on the six themes described below. Comments must be submitted in writing no later than April 11, 2019, must be identified by Docket No. USCBP-2018-0045, and may be submitted by one (1) of the following methods:

• Federal eRulemaking Portal: http://www.regulations.gov. Follow the instructions for submitting comments.

• Mail: Mr. Brandon Lord, Office of Trade, U.S. Customs and Border Protection, 1331 Pennsylvania Avenue NW, Suite 950N, Washington, DC 20229.

Instructions: All submissions received must include the words “Department of Homeland Security” and the docket number (USCBP-2018-0045) for this action. Please do not submit personal information to the Federal eRulemaking portal.

Docket: For access to the docket or to read background documents or comments, go to http://www.regulations.gov and search for Docket Number USCBP-2018-0045.

FOR FURTHER INFORMATION CONTACT: Mr. Brandon Lord, Office of Trade, U.S. Customs and Border Protection, 1331 Pennsylvania Avenue NW, Suite 950N, Washington, DC 20229; telephone (202) 325-6432 or email 21CCF@cbp.dhs.gov.

SUPPLEMENTARY INFORMATION:

Extension of Comment Period

On December 21, 2018, CBP published a notice in the Federal Register (83 FR 65703) announcing “The 21st Century Customs Framework” initiative and public meeting. This document announces that the public comment period that previously closed on February 4, 2019, will be re-opened for a period of 30 days. To allow for the submission of comments following the March 1, 2019 public meeting, and to maximize public participation and input on the key themes described below, CBP has decided to allow additional time for the public to submit comments. Accordingly, the comment period is re-opened until April 11, 2019, and comments must be received by CBP on or before that date.

21st Century Customs Framework Initiative Overview

CBP is cognizant of the need to stay modern in order to meet the challenges of an evolving trade landscape. New actors, industries, and modes of conducting business have emerged, disrupting the traditional global supply chain. To continue to effectively fulfill CBP's mission, CBP is pursuing an initiative titled “The 21st Century Customs Framework.” “The 21st Century Customs Framework” will seek to address and enhance numerous aspects of CBP's trade mission to better position the agency to operate in the 21st century trade environment.

Through preliminary efforts, CBP has identified key themes for which CBP seeks public input: (1) Emerging Roles in the Global Supply Chain; (2) Intelligent Enforcement; (3) Cutting-Edge Technology; (4) Data Access and Sharing; (5) 21st Century Processes; and (6) Self-Funded Customs Infrastructure. Brief descriptions of each theme are provided below along with the request for public comments on questions posed by CBP related to each theme.

(1) Emerging Roles in the Global Supply Chain

Due to technological advances and new modes of conducting business, the modern international trade environment is marked by emerging actors and dynamic supply chains. CBP's traditional legal frameworks were developed to primarily reflect containerized shipments and the supply chain to support such shipments, as opposed to small packages and business models built around e-commerce. CBP is seeking to ensure that all parties in the modern supply chain are aware of their responsibilities to promote safety and compliance, while still enabling legitimate trade and economic prosperity.

Public Comment Questions

• What new roles in the global supply chain are unaccounted for in CBP's current legal framework? How should the agency account for these roles?

• How can CBP work with e-commerce platforms and carriers to identify and deter illicit shipments?

• How can new actors in the global supply chain work with CBP to improve trade security?

(2) Intelligent Enforcement

CBP's efforts on intelligent enforcement are anchored on further improving risk management and the impact of efforts to detect high-risk activity, deter non-compliance and disrupt fraudulent behavior—all in the interest of enforcing U.S. trade laws to protect America's economic security. CBP's intelligent enforcement efforts include exploring how to better utilize technology, big data, and predictive analytics to drive decision-making.

Public Comment Questions

• What technologies are useful in predicting violative activities and an entity's potential for violations?

• What tools or sources of information regarding CBP's compliance requirements have you found the most useful? What other resources can CBP provide to ensure that trade stakeholders understand CBP requirements?

• How can CBP improve violation referral systems and allegation processing?

(3) Cutting-Edge Technology

One of the defining features of the modern trade environment is the rapid emergence of new technology. CBP is exploring the use of new technologies to improve trade facilitation and trade enforcement activities.

Public Comment Questions

• What emerging technologies are most important for CBP to monitor or adopt?

• What technologies are being adopted by the private sector that are incompatible with CBP's current legal or policy frameworks?

• What technologies on the horizon have the potential to be a disruptive force (enabling or challenging) within the trade ecosystem?

(4) Data Access and Sharing

The volume and types of data and the speed at which the data can be transmitted create a valuable opportunity for CBP and trade stakeholders. CBP is examining how more efficient data sharing can improve trade facilitation and trade enforcement. At the same time, CBP is looking at ways to reduce the duplication or unnecessary capture of data.

Public Comment Questions

• What data would you like CBP to share with importers, and vice versa, to improve trade facilitation and enforcement?

• How can CBP's overall data sharing with trade stakeholders be improved?

(5) 21st Century Trade Processes

CBP will be refining certain import processes to reflect the modern trade environment, improve the experience of importers, brokers, and other important actors in the supply chain, and increase overall efficiency. CBP is placing a focus on processes that may be overly burdensome or outdated.

Public Comment Questions

• What specific import procedures or requirements can be improved or refined, and how?

• What are some international best practices (i.e., processes used by other customs agencies) that CBP should examine?

(6) Self-Funded Customs Infrastructure

New requirements affecting CBP, Partner Government Agencies (PGA), and trade industry will necessitate updates to the Automated Commercial Environment (ACE) outside of reoccurring maintenance. CBP is examining avenues to ensure that the ACE has a consistent stream of funding for enhancements and new functionalities.

Public Comment Questions

• Outside of the annual Congressional appropriations cycle, what mechanisms should CBP explore for consistent and timely funding for ACE enhancements?

• How could the fee collection process be streamlined, improved, or redesigned to more directly fund ACE enhancements?

Dated: March 6, 2019.
Cynthia F. Whittenburg,
Deputy Executive Assistant Commissioner, Office of Trade.

[FR Doc. 2019-04433 Filed 3-11-19; 8:45 am]

BILLING CODE 9111-14-P